GOVERNMENT PRINTING OFFICE

Depository Library Council to the Public Printer Meeting

The Depository Library Council to the Public Printer (DLC) will meet on Sunday, October 14, 2001, through Wednesday, October 17, 2001, in Alexandria, Virginia. The sessions will take place from 7:30 p.m. until 10 p.m. on Sunday, 8:30 a.m. until 5 p.m. on Monday and Tuesday and from 8:30 a.m. until 3:30 p.m. on Wednesday. The meeting will be held at the Holiday Inn Hotel and Suites, 625 First Street, Alexandria, Virginia. The purpose of this meeting is to discuss the Federal Depository Library Program. All sessions are open to the public.

A limited number of rooms are being held for Council attendees at the rate of $126 (plus tax). Some attendees will be booked at the Radisson Hotel Old Town Alexandria, 901 North Fairfax Street, Alexandria, VA. The Radisson is a couple of blocks from the Holiday Inn. Reservations can be made by dialing the Holiday Inn directly at 703-548-6300. The rate is good for the meeting dates as well as the three (3) days prior to the meeting and the three (3) days after the meeting (Please note, since the General Services Administration federal per diem rates change October 1, the room rate could be higher when the meeting convenes). To receive the prevailing Government rate, you must make your reservation no later than September 14, 2001 and mention that you are with the Government Printing Office Conference. After that date, rooms will be subject to availability at the best obtainable rate.

Michael F. DiMario,
Public Printer.

[FR Doc. 01-22099 Filed 8-31-01; 8:45 am]

BILLING CODE 1520-01-P